INTERNATIONAL TRADE COMMISSION

[Investigation No. 332-482; Investigation No. Singapore FTA-103-015]

U.S.-Singapore FTA: Probable Economic Effect of Accelerated Tariff Elimination and Modification of Rules of Origin

AGENCY: United States International Trade Commission.

ACTION: Institution of investigation and request for written submissions.

SUMMARY: Following receipt of a request on October 27, 2006, from the United States Trade Representative (USTR) under section 332(g) of the Tariff Act of 1930 (19 U.S.C. 1332(g)) and in accordance with section 103 of the United States-Singapore Free Trade Agreement (USSFTA) Implementation Act (19 U.S.C. 3805 note), the Commission instituted Investigation Nos. 332-482 and Singapore FTA-103-015, U.S.-Singapore FTA: Probable Economic Effect of Accelerated Tariff Elimination and Modification of Rules of Origin.

DATES: Effective Date: November 28, 2006.

FOR FURTHER INFORMATION CONTACT: Information may be obtained from Vincent Honnold, Office of Industries (202-205-3314 or vincent.honnold@usitc.gov); for information on legal aspects, contact William Gearhart of the Commission's Office of the General Counsel (202-205-3091 or william.gearhart@usitc.gov). The media should contact Margaret O'Laughlin, Office of External Relations (202-205-1819 or margaret.olaughlin@usitc.gov).

Background: According to USTR's request letter, the United States and Singapore have agreed to enter into consultations to consider acceleration of the reduction or elimination of tariffs (including an increase in the quota level of certain tariff rate quotas) for certain articles, and a rules of origin change. Sections 201(b) and 202(o) of the United States-Singapore Free Trade Agreement Implementation Act (Act) authorize the President to proclaim modifications in duty treatment and rules of origin changes, respectively, subject to the consultation and layover requirements in section 103 of the Act. Section 103 requires that the President obtain advice regarding the proposed action from the Commission.

The USTR requested that the Commission provide advice, with respect to three articles, as to the probable economic effect of accelerating the reduction or elimination of the U.S. tariff under the USSFTA on domestic industries producing like or directly competitive articles, and on consumers of the affected goods. The three articles are (1) preparations for infant use, put up for retail sale (HS 1901.10); (2) peanuts in snack products (HS 2008.11); and (3) polycarbonates (HS 3907.40.00). The USTR also requested that the Commission provide advice on the probable effect of a modification in the rules of origin for photocopiers (HS 9009.12.00) on U.S. trade under the USSFTA, on total U.S. trade, and on domestic industries. Additional information concerning these articles is available from the Office of the Secretary to the Commission or by accessing the electronic version of this notice at the Commission's Internet site (http://www.usitc.gov). The current USSFTA rules of origin can be found in General Note 25 of the 2006 Harmonized Tariff Schedule of the United States (see “General Notes” link at http://www.usitc.gov/tata/hts/bychapter/index.htm).

As requested, the Commission will forward its advice to the USTR by February 5, 2007. USTR indicated that those sections of the Commission's report that analyze the probable economic effects, as well as other information that would reveal aspects of the probable effects advice, will be classified.

Written Submissions: In lieu of a public hearing, interested parties are invited to submit written statements concerning the matters to be addressed by the Commission in this investigation. Submissions should be addressed to the Secretary, United States International Trade Commission, 500 E Street SW., Washington, DC 20436. To be assured of consideration by the Commission, written statements should be submitted to the Commission at the earliest practical date and should be received no later than the close of business on December 19, 2006. All written submissions must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, from which the confidential business information must be deleted (see the following paragraph for further information regarding confidential business information). The Commission's rules authorize filing submissions with the Secretary by facsimile or electronic means only to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. However, should the Commission publish a public version of this report, such confidential business information will not be published in a manner that would reveal the operations of the firm supplying the information.

The public record for this investigation may be viewed on the Commission's electronic docket (EDIS) at http://edis.usitc.gov. Hearing impaired individuals may obtain information on this matter by contacting the Commission's TDD terminal on 202-205-1810. Persons with mobility impairments who will need special assistance in gaining access to the Commission should contact the Office of the Secretary at 202-205-2000.

By order of the Commission.
Issued: November 30, 2006.
Marilyn R. Abbott,
Secretary to the Commission.

[FR Doc. E6-20671 Filed 12-5-06; 8:45 am]

BILLING CODE 7020-02-P